INTERNATIONAL TRADE COMMISSION

[Investigation No. 337-TA-1082]

Certain Gas Spring Nailer Products and Components Thereof; Institution of Investigation

AGENCY: U.S. International Trade Commission.

ACTION: Notice.

SUMMARY: Notice is hereby given that a complaint was filed with the U.S. International Trade Commission on September 26, 2017, under the Tariff Act of 1930, as amended, on behalf of Kyocera Senco Brands Inc. of Cincinnati, Ohio. A supplement was filed on October 5, 2017. An amended complaint was filed on October 17, 2017. Supplements to the amended complaint were filed on November 3, 2017, November 8, 2017 and November 9, 2017. The amended complaint as supplemented alleges violations of the Tariff Act based upon the importation into the United States, the sale for importation, and the sale within the United States after importation of certain gas spring nailer products and components thereof by reason of infringement of one or more of U.S. Patent No. 8,011,547 (“the '547 patent”); U.S. Patent No. 8,267,296 (“the '296 patent”); U.S. Patent No. 8,267,297 (“the '297 patent”); U.S. Patent No. 8,387,718 (“the '718 patent”); U.S. Patent No. 8,286,722 (“the '722 patent”); and U.S. Patent No. 8,602,282 (“the '282 patent”). The amended complaint further alleges that an industry in the United States exists as required by the applicable Federal Statute.

The complainant requests that the Commission institute an investigation and, after the investigation, issue a limited exclusion order, and cease and desist orders.

ADDRESSES: The complaint, as amended, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of Docket Services, U.S. International Trade Commission, telephone (202) 205-1802.

SUPPLEMENTARY INFORMATION:

Authority: The authority for institution of this investigation is contained in section 337 of the Tariff Act of 1930, as amended, 19 U.S.C. 1337 and in section 210.10 of the Commission's Rules of Practice and Procedure, 19 CFR 210.10 (2017).

Scope of Investigation: Having considered the complaint, as amended, the U.S. International Trade Commission, on November 14, 2017, ordered that—

(1) Pursuant to subsection (b) of section 337 of the Tariff Act of 1930, as amended, an investigation be instituted to determine whether there is a violation of subsection (a)(1)(B) of section 337 in the importation into the United States, the sale for importation, or the sale within the United States after importation of certain gas spring nailer products and components thereof by reason of infringement of one or more of claim 30 of the '547 patent; claims 1 and 11 of the '296 patent; claims 1 and 32 of the '297 patent; claims 1, 10, and 16 of the '718 patent; claims 1 and 16 of the '722 patent; and claim 1 of the '282 patent; and whether an industry in the United States exists as required by subsection (a)(2) of section 337;

(2) For the purpose of the investigation so instituted, the following are hereby named as parties upon which this notice of investigation shall be served:

(a) The complainant is: Kyocera Senco Brands Inc., 4270 Ivy Pointe Boulevard, Cincinnati, OH 45245.

(b) The respondents are the following entities alleged to be in violation of section 337, and are the parties upon which the amended complaint is to be served: Hitachi Koki U.S.A., Limited, 1111 Broadway Avenue, Braselton, GA 38517.

(3) For the investigation so instituted, the Chief Administrative Law Judge, U.S. International Trade Commission, shall designate the presiding Administrative Law Judge.

The Office of Unfair Import Investigations will not be named as a party to this investigation.

Responses to the amended complaint and the notice of investigation must be submitted by the named respondent in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of the respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: November 14, 2017.
Lisa R. Barton,
Secretary to the Commission.

[FR Doc. 2017-25053 Filed 11-17-17; 8:45 am]

BILLING CODE 7020-02-P